DEPARTMENT OF ENERGY

Office of Energy Efficiency and Renewable Energy

Hydrolysis of Sodium Borohydride for On-Board Hydrogen Storage Go/No-Go Decision

AGENCY: Office of Energy Efficiency and Renewable Energy, Department of Energy (DOE).

ACTION: Notice of request for technical input to go/no-go decision.

SUMMARY: The Department of Energy (the Department or DOE) Hydrogen, Fuel Cells and Infrastructure Technologies Program, is requesting position papers or other technical documentation regarding hydrolysis of sodium borohydride for on-board vehicular hydrogen storage applications by April 30, 2007. Information regarding regeneration of the spent fuel resulting from hydrolysis of sodium borohydride may also be submitted. This information will be used as part of DOE's go/no-go process in determining the future of DOE's program for applied research and development of hydrolysis of sodium borohydride for on-board hydrogen storage, including regeneration of the spent fuel.

DATES: Written position papers, articles or other technical documentation for consideration by the Department regarding this decision are welcome. Documents may be submitted via e-mail and must be received by April 30, 2007.

ADDRESSES: Please submit all documents to h2storage@go.doe.gov.

FOR FURTHER INFORMATION CONTACT: Grace Ordaz, U.S. Department of Energy, Office of Energy Efficiency and Renewable Energy, Mail Station EE-2H, 1000 Independence Avenue, SW., Washington, DC 20585-0121, Phone: (202) 586-8350, e-mail: grace.ordaz@ee.doe.gov.

SUPPLEMENTARY INFORMATION: The mission of the DOE's Hydrogen Program is to research, develop and validate fuel cell and hydrogen production, delivery, and storage technologies so that hydrogen from diverse domestic resources can be used in a clean, safe, reliable and affordable manner in fuel cell vehicles, electric power generation and combined heat and power applications. A critical requirement for enabling hydrogen fuel cell vehicles to achieve mass market penetration is the development of on-board hydrogen storage systems with enough capacity to meet driving range expectations (more than 300 miles in the United States), while meeting a number of requirements such as weight, volume and cost. Detailed technical targets developed by DOE, with input through the FreedomCAR and Fuel Partnership, are available at: http://www1.eere.energy.gov/hydrogenandfuelcells/mypp/pdfs/storage.pdf.

To address the critical requirement of on-board hydrogen storage, the Program has established a “National Hydrogen Storage Project” including three Centers of Excellence and independent projects covering a diverse portfolio of hydrogen storage R&D. Each Center of Excellence is focusing on a class of storage materials—metal (reversible) hydrides, chemical hydrides (non-reversible), and carbon (and other hydrogen adsorbent) materials. Each center has university, industry and national lab partners pursuing and leveraging their specific expertise in different areas. The Program has also expanded basic science efforts and coordination between DOE's Office of Energy Efficiency and Renewable Energy and Office of Science (see http://www.hydrogen.energy.gov).

On-board hydrogen storage systems must be developed that are safe, low cost and have high volumetric and gravimetric energy capacities in addition to meeting durability and operability requirements such as hydrogen charging and discharging rates. Periodic assessments and decision points on specific material technologies are included within the Hydrogen Storage sub-Program to meet the required targets within the Program timeframe.

Within the current storage portfolio, a number of promising storage materials are being studied which have the potential for hydrogen storage capacities comparable to or greater than initially envisioned. In the material class of chemical hydrides, sodium borohydride has been shown to provide an adequate source of hydrogen upon hydrolysis of the material. However, since the hydrolysis reaction is not reversible on board the vehicle, processes for efficient off-board regeneration of the spent fuel, sodium borate, must be developed for the hydrolysis of sodium borohydride to be a viable on-board storage option. The DOE Hydrogen Program initiated research to develop efficient regeneration processes for sodium borohydride in 2003. Researchers supported by the DOE Program and other entities have made progress in improving the efficiency of the regeneration process over that of the current industrial process through which sodium borohydride is produced. However, the overall efficiency of the regeneration process remains low when compared to the DOE goal of 60%. In 2005, DOE increased the level of effort for the efficient regeneration of spent fuel from hydrolysis of sodium borohydride by including this activity within the scope of DOE's Chemical Hydrogen Storage Center of Excellence. Results from these DOE R&D activities will also be used in DOE's go/no-go process in determining the future of applied research and development of hydrolysis of sodium borohydride for on-board vehicular hydrogen storage and of regeneration processes for the spent fuel.

Scope Of Decision Process: The DOE will make a decision regarding the future of its program for applied research and development of hydrolysis of sodium borohydride for on-board hydrogen storage by the end of September 2007. DOE will review the current state of activities related to hydrolysis of sodium borohydride, including the regeneration of spent fuel, and base its go/no-go decision on whether the following 2007 technical targets have been met:

(1) System Gravimetric Capacity: Usable, specific-energy from H2 (net useful energy/max system mass) = 1.5 kWh/kg

(2) System Volumetric Capacity: Usable energy density from H2 (net useful energy/max system volume) = 1.2 kWh/L

(3) Storage system cost = $6/kWh net

DOE will also consider the likelihood that sodium borohydride will meet the following 2010 technical targets:

(4) System Gravimetric Capacity: Usable, specific-energy from H2 (net useful energy/max system mass) = 2.0 kWh/kg

(5) System Volumetric Capacity: Usable energy density from H2 (net useful energy/max system volume) = 1.5 kWh/L

(6) Storage system cost = $4/kWh net

(7) Fuel cost (regeneration) = $2-3 per gallon of gasoline equivalent at the pump.

Position papers or other technical documents relevant to the go/no-go decision will be accepted by DOE for consideration in this decision. Position papers are limited to 10 pages maximum, and should contain a cover page with a point of contact, company name, address and email address. The cover page will not be counted in the 10 page limitation. Technical documents, such as published journal articles or preprints, are not restricted to the page limit. Position papers and other technical documents will be made available to the public and should not contain any proprietary information.

For more information about the DOE Hydrogen Program and related on-board hydrogen storage activities visit the Program's Web site at http://www.hydrogen.energy.gov and http://www.eere.energy.gov/hydrogenandfuelcells.

Issued in Golden, CO on December 12, 2006.
Jerry L. Zimmer,
Procurement Director, Golden Field Office.

[FR Doc. E6-21724 Filed 12-19-06; 8:45 am]

BILLING CODE 6450-01-P